DEPARTMENT OF THE INTERIOR

National Park Service

[NPS-AKR-WRST;9924-PYS]

Alaska Region's Subsistence Resource Commission (SRC) Program

AGENCY: National Park Service, Interior.

ACTION: Notice of public meeting for the National Park Service (NPS) Alaska Region's Subsistence Resource Commission (SRC) program.

SUMMARY: The Wrangell-St. Elias National Park SRC will meet to develop and continue work on NPS subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting to be announced in the Federal Register.

Public Availability of Comments: This meeting is open to the public and will have time allocated for public testimony. The public is welcome to present written or oral comments to the SRC. This meeting will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

If the meeting date and location are changed, a notice will be published in local newspapers and announced on local radio stations prior to the meeting date. SRC meeting locations and dates may need to be changed based on inclement weather or exceptional circumstances.

Wrangell-St. Elias National Park SRC Meeting Date and Location: The Wrangell-St. Elias National Park SRC will meet at the Slana Community Hall (4 Mile Road, north of the junction with the Nabesna Road), on Monday, February 27, 2012. The meeting will start at 9:30 a.m. and conclude at 5 p.m. On February 28, 2012, the commission will reconvene and meet from 9 a.m. until business is completed.

For Further Information On the Wrangell-St. Elias National Park SRC Meeting Contact: Rick Obernesser, Superintendent or Barbara Cellarius, Subsistence Manager at (907) 822-5234 or Clarence Summers, Subsistence Manager, NPS Alaska Regional Office, at (907) 644-3603. If you are interested in applying for Wrangell-St. Elias National Park SRC membership, contact the Superintendent at P.O. Box 439, Copper Center, AK 99573 (907) 822-5234, or visit the park Web site at: http://www.nps.gov/wrst/contacts.htm.

Proposed SRC Meeting Agenda

The proposed meeting agenda for each meeting includes the following:

1. SRC Roll Call and Confirmation of Quorum

2. Introductions

3. Housekeeping Announcements

4. Review and Adopt Agenda

5. Review and Approval of Minutes—October 6-7, 2011 Meeting

6. Community Welcome

7. Superintendent's Welcome & SRC Purpose

8. Membership Status

9. Election of Officers

a. Chair

b. Vice Chair

10. Chairman's Report

11. Old Business

a. Draft Environmental Assessment on the Subsistence Collections and Use of Shed or Discarded Animal Parts and Plants From NPS Areas in Alaska

b. Update on Nabesna-Area ORV Management

1. Trail Improvements and Other Trail-Related Activities Planned for Summer 2012

2. Access to the National Park for Non-Local Family Members of Subsistence Users

c. Update on Firewood Harvest and Portable Motors

d. Report on Local Hire

e. Update on NPS and FSB Tribal Consultation Efforts

12. New Business

a. Call for Proposals to Change Federal Subsistence Fisheries Regulations

b. GAAR SRC Hunting Plan Recommendation Regarding Wildlife Management

c. GAAR SRC Hunting Plan Recommendation Regarding Per Diem Rates

13. Wrangell-St. Elias National Park and Preserve Staff Reports

a. Resource Division Update

b. Wildlife Report

c. Fisheries Report

d. Subsistence Coordinator's Report

e. Ranger Division Update

f. Superintendent's Report

14. Public and Other Agency Comments

15. Work Session (Comment on Issues, Prepare Letters, etc.)

16. Set Tentative Date and Location for Next Meeting

17. Adjourn Meeting

Debora R. Cooper,
Associate Regional Director, Resources and Subsistence, Alaska Region.

[FR Doc. 2012-1857 Filed 1-27-12; 8:45 am]

BILLING CODE 4312-HC-P